AGENCY FOR INTERNATIONAL DEVELOPMENT

Agency Information Collection Activities; Submission to the Office of Management and Budget for Review and Approval; Comment Request; Information Collection Generic Clearance Request for USAID Workforce and Organizational Surveys

AGENCY: Bureau for Management, Office of the Director, (M/MPBP/OD), Agency for International Development (USAID).

ACTION: Notice of information collection; request for comment.

SUMMARY: USAID proposes a generic clearance to collect workforce feedback through surveys, interviews, and focus groups to optimize operations, strengthen organizational health and workforce culture, and improve workforce retention. USAID has a diverse workforce that consists of U.S. direct hires (foreign and civil service) and multiple contract mechanisms with the majority of the workforce belonging to multiple contract mechanisms, including Coordinating Country Nationals, Personal Services Contractors, and Institutional Support Contractors.

DATES: Interested persons are invited to submit comments within 60 days of this notice.

ADDRESSES: You may send comments by email to:

• Email: oscholbe@usaid.gov.

FOR FURTHER INFORMATION CONTACT: Owain Scholbe, Junior Management and Program Analyst, Management Bureau, Office of the Director (M/MPBP/OD), telephone 202-921-5070, or via email at oscholbe@usaid.gov.

SUPPLEMENTARY INFORMATION: In accordance with the Paperwork Reduction Act of 1995 (PRA) (44 U.S.C. 3506(c)(2)(A)), USAID is providing the general public and Federal agencies with an opportunity to comment on the proposed collection of information. USAID is requesting a general clearance to provide and conduct workforce surveys, interviews, and focus groups with a diverse workforce consisting of numerous hiring mechanisms, including, but not limited to, U.S. direct hires, fellows, interns, Personal Services Contractors, Institutional Support Contractors, Coordinating Country Nationals, and Third Country Nationals. The goal of data collection under this generic clearance is to collect workforce feedback on organizational health, operations, workforce culture, and work environment necessary to strengthen mission readiness and better achieve its development objectives. USAID will only collect data from the approximately 11,000 members of the USAID workforce with minimal collection of personally identifiable information. The total estimated number of annual burden hours for these workforce population surveys is 41,250 hours. USAID will limit analysis and reporting to summary level statistics that will only be available to the internal workforce.

OMB Control Number: TBD.

Dated: October 25, 2023.
Erin Brown,
Deputy Director, M/MPBP.

[FR Doc. 2023-23949 Filed 10-30-23; 8:45 am]

BILLING CODE 6116-01-P